FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 017096F.

Name: Aero Costa International, Inc.

Address: 22010 S. Wilmington Ave., Ste. 208, Carson, CA 90745.

Date Revoked: December 31, 2006.

Reason: Failed to maintain a valid bond.

License Number: 011335N.

Name: Aeronet, Inc.

Address: 42 Corporate Park, Ste. 150, Irvine, CA 92606.

Date Revoked: December 28, 2006.

Reason: Failed to maintain a valid bond.

License Number: 007438N.

Name: Allied Freight Forwarding, Inc.

Address: 700 Oakmont Lane, Westmont, Il 60559-5546.

Date Revoked: December 7, 2006.

Reason: Surrendered license voluntarily.

License Number: 016233N.

Name: Amfak Container Line, Inc., Dba Freight Brokers Italia Srl.

Address: 207 Meadow Road, Edison, NJ 08817.

Date Revoked: December 4, 2006.

Reason: Failed to maintain a valid bond.

License Number: 019591NF.

Name: Con-Way Global Solutions, Inc. dba Con-Way Air Express.

Address: 110 Parkland Plaza, Ann Arbor, MI 48103.

Date Revoked: December 6, 2006.

Reason: Surrendered license voluntarily.

License Number: 018742F.

Name: FMD International Business, Inc. dba Triton Cargo USA.

Address: 576 NW 87th Terrace, Coral Spring, FL 33071.

Date Revoked: December 20, 2006.

Reason: Failed to maintain a valid bond.

License Number: 000149F.

Name: M.G. Otero Company, Inc.

Address: 109 West Lemon Ave., 2nd Floor, Monrovia, CA 91016.

Date Revoked: December 26, 2006.

Reason: Failed to maintain a valid bond.

License Number: 019566F.

Name: Guomei Ma dba MTEK International.

Address: 26888 Arcadia Drive, Flat Rock, MI 48134.

Date Revoked: November 8, 2006.

Reason: Surrendered license voluntarily.

License Number: 015924N.

Name: Normas World Trading Company, Inc.

Address: 872 Bettina Court, Ste. 203, Houston, TX 77024.

Date Revoked: December 31, 2006.

Reason: Failed to maintain a valid bond.

License Number: 002996F.

Name: Pecan International Forwarders, Inc.

Address: 147-02 Farmers Blvd, Jamaica, NY 11434.

Date Revoked: December 31, 2006.

Reason: Failed to maintain a valid bond.

License Number: 002263F.

Name: St. John Bros., Inc.

Address: Bldg. #1, East Access Rd., N.O. Int'l. Airport, Kenner, LA 70063.

Date Revoked: December 20, 2006.

Reason: Failed to maintain a valid bond.

License Number: 016535F.

Name: World Trans Logistic Inc. dba World Air Logistic Co.

Address: 273 E. Rondondo Beach Blvd., Gardena, CA 90248.

Date Revoked: December 24, 2006.

Reason: Failed to maintain a valid bond.

Sandra L. Kusumoto,
Director, Bureau of Certification and Licensing.

[FR Doc. E7-1003 Filed 1-23-07; 8:45 am]

BILLING CODE 6730-01-P